DEPARTMENT OF TRANSPORTATION

Federal Aviation Administration

14 CFR Part 39

[Docket No. FAA-2006-24951; Directorate Identifier 2005-NM-184-AD; Amendment 39-14752; AD 2006-18-13]

RIN 2120-AA64

Airworthiness Directives; Gulfstream Model GV and GV-SP Series Airplanes

AGENCY: Federal Aviation Administration (FAA), Department of Transportation (DOT).

ACTION: Final rule.

SUMMARY: The FAA is adopting a new airworthiness directive (AD) for certain Gulfstream Model GV and GV-SP series airplanes. This AD requires repairing the force link assembly wire harness. This AD results from a report indicating that the wiring harness outer shield and insulation on the primary conductors may have been inadvertently cut due to an improper method used to remove the wiring outer jacket. We are issuing this AD to prevent the loss of the hardover prevention system (HOPS) in the roll axis due to a short circuit in the wiring harness, which could result in reduced controllability of the airplane.

DATES: This AD becomes effective October 13, 2006.

The Director of the Federal Register approved the incorporation by reference of certain publications listed in the AD as of October 13, 2006.

ADDRESSES: You may examine the AD docket on the Internet at http://dms.dot.gov or in person at the Docket Management Facility, U.S. Department of Transportation, 400 Seventh Street, SW., Nassif Building, Room PL-401, Washington, DC.

Contact Gulfstream Aerospace Corporation, Technical Publications Dept., P.O. Box 2206, Savannah, Georgia 31402-2206, for service information identified in this AD.

FOR FURTHER INFORMATION CONTACT: Darby Mirocha, Aerospace Engineer, Systems and Equipment Branch, ACE-119A, FAA, Atlanta Aircraft Certification Office, One Crown Center, 1895 Phoenix Boulevard, suite 450, Atlanta, Georgia 30349; telephone (770) 703-6095; fax (770) 703-6097.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Gulfstream Model GV and GV-SP series airplanes. That NPRM was published in the Federal Register on June 6, 2006 (71 FR 32487). That NPRM proposed to require repairing the force link assembly wire harness.

Comments

We provided the public the opportunity to participate in the development of this AD. We received no comments on the NPRM or on the determination of the cost to the public.

Conclusion

We have carefully reviewed the available data and determined that air safety and the public interest require adopting the AD as proposed.

Costs of Compliance

There are about 99 airplanes of the affected design in the worldwide fleet. The following table provides the estimated costs for U.S. operators to comply with this AD.

Estimated Costs
Work hours | Average labor rate per hour | Parts | Cost per airplane | Number of U.S.-registered airplanes | Fleet cost
3 | $80 | The manufacturer states that it will supply required parts to the operators at no cost | $240 | 77 | $18,480

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-18-13 Gulfstream Aerospace Corporation: Amendment 39-14752. Docket No. FAA-2006-24951; Directorate Identifier 2005-NM-184-AD.

Effective Date

(a) This AD becomes effective October 13, 2006.

Affected ADs

(b) None.

Applicability

(c) This AD applies to the following Gulfstream Aerospace Corporation airplanes, certificated in any category:

Table 1.—Applicability
Model | Serial Nos.
GV series airplanes | 674 through 693 inclusive.
GV-SP series airplanes | 5001 through 5072 inclusive.

Unsafe Condition

(d) This AD results from a report indicating that the wiring harness outer shield and insulation on the primary conductors may have been inadvertently cut due to an improper method used to remove the wiring outer jacket. We are issuing this AD to prevent the loss of the hardover prevention system (HOPS) in the roll axis due to a short circuit in the wiring harness, which could result in reduced controllability of the airplane.

Compliance

(e) You are responsible for having the actions required by this AD performed within the compliance times specified, unless the actions have already been done.

Repair

(f) Within 12 months after the effective date of this AD, repair the force link assembly wire harness by doing all actions specified in the Accomplishment Instructions of the applicable service information identified in Table 2 of this AD, except as required by paragraph (g) of this AD.

Table 2.—Service Information
For Model— | Use—
GV-SP series airplanes | Gulfstream G500 Customer Bulletin 14, dated June 23, 2005.
GV-SP series airplanes | Gulfstream G550 Customer Bulletin 14, dated June 23, 2005.
GV series airplanes | Gulfstream GV Customer Bulletin 135, dated June 23, 2005.

Note 1: The Gulfstream customer bulletins identified in Table 2 of this AD include Vought Service Bulletin SB-VAIGV/GVSP-27-PG0098, dated May 9, 2005, as an additional source of service information for the repair.

Exception to Service Bulletin Specifications

(g) During the inspection of the environmental seal around the installed wires required by paragraph (f) of this AD: If any nick or other damage is found, repair before further flight using a method approved by the Manager, Atlanta Aircraft Certification Office (ACO), FAA. For a repair method to be approved by the Manager, Atlanta ACO, as required by this paragraph, the Manager's approval letter must specifically refer to this AD.

Alternative Methods of Compliance (AMOCs)

(h)(1) The Manager, Atlanta ACO, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use the service information identified in Table 3 of this AD to perform the actions that are required by this AD, unless the AD specifies otherwise. Each Gulfstream customer bulletin listed in Table 3 of this AD includes Vought Aircraft Industries Service Bulletin SB-VAIGV/GVSP-27-PG0098, dated May 9, 2005. The Director of the Federal Register approved the incorporation by reference of these documents in accordance with 5 U.S.C. 552(a) and 1 CFR part 51. Contact Gulfstream Aerospace Corporation, Technical Publications Dept., P.O. Box 2206, Savannah, Georgia 31402-2206, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Customer bulletin | Date
Gulfstream G500 Customer Bulletin 14 | June 23, 2005.
Gulfstream G550 Customer Bulletin 14 | June 23, 2005.
Gulfstream GV Customer Bulletin 135 | June 23, 2005.

Issued in Renton, Washington, on August 28, 2006.
Kalene C. Yanamura,
Acting Manager, Transport Airplane Directorate, Aircraft Certification Service.

[FR Doc. E6-14688 Filed 9-7-06; 8:45 am]

BILLING CODE 4910-13-P